PRESIDIO TRUST

Notice of Public Meeting

AGENCY: The Presidio Trust.

ACTION: Notice of public meeting.

SUMMARY: In accordance with the Presidio Trust Act, and in accordance with the Presidio Trust's bylaws, notice is hereby given that a public meeting of the Presidio Trust Board of Directors will be held commencing 6:30 p.m. on June 19, 2019 at the Officers' Club, 50 Moraga Avenue, Presidio of San Francisco, California.

The purposes of this meeting are to: Provide the Chairperson's report; provide the Chief Executive Officer's report; to decide whether to move forward with the proposal to develop Fort Winfield Scott; and to receive public comment on these and other matters pertaining to Trust business.

Individuals requiring special accommodation at this meeting, such as needing a sign language interpreter, should contact Laurie Fox at 415.561.5300 prior to June 12, 2019.

DATES: The meeting will begin at 6:30 p.m. on June 19, 2019.

ADDRESSES: The meeting will be held at the Officers' Club, 50 Moraga Avenue, Presidio of San Francisco.

FOR FURTHER INFORMATION CONTACT: George K.H. Schell, General Counsel, the Presidio Trust, 103 Montgomery Street, P.O. Box 29052, San Francisco, California 94129-0052, Telephone: 415.561.5300.

Dated: May 13, 2019.
George K.H. Schell,
General Counsel.

[FR Doc. 2019-10313 Filed 5-16-19; 8:45 am]

BILLING CODE 4310-4R-P